DEPARTMENT OF JUSTICE

[OMB Number 1105-NEW]

Civil Division; Agency Information Collection Activities; Proposed eCollection eComments Requested; New

AGENCY: Civil Division, Department of Justice.

ACTION: 60 Day notice.

SUMMARY: The Department of Justice, Civil Division, intends to request approval from the Office of Management and Budget (OMB) for a generic information collection clearance that will allow Civil to conduct a variety of surveys, focus groups, listening sessions and website content testing. Civil will submit request for review and approval to the Office of Management and Budget (OMB), in accordance with the Paperwork Reduction Act of 1995.

Over the next three (3) years, Civil anticipates undertaking a variety of new surveys and data collections as well as reassessing ongoing elder justice website projects that address elder abuse and elder justice issues. This work will entail development of new survey instruments, redesigning and/or modifying existing surveys and creating or modifying established surveys. In order to inform Civil data collection protocols, to develop accurate estimates of respondent burden and to minimize respondent burden associated with each new or modified data collection, Civil will engage in pilot and field test activities to refine instrumentation and data collection methodologies. Civil envisions using a variety of techniques, including, but not limited to, tests of different types of survey and data collection operations, focus groups, pilot testing, exploratory interviews, questionnaires, usability testing and electronic data collection instruments.

Following standard Office of Management and Budget (OMB) Requirements, Civil will submit a change request to OMB individually for every group of data collection activities undertaken under this generic clearance. Civil will provide OMB with a copy of the individual instruments or questionnaires (if one is used), as well as other materials describing the project.

DATES: The Department of Justice encourages public comment and will accept input until June 15, 2018.

FOR FURTHER INFORMATION CONTACT: If you have additional comments especially on the estimated public burden or associated response time, suggestions, or need a copy of the proposed information collection instrument with instructions or additional information, please contact Julie Childs, 950 Pennsylvania Ave. NW, Washington, DC 20005, Attn: Civil Communications Office (Attn: Elder Justice Initiative) (Phone: 202-307-0240).

SUPPLEMENTARY INFORMATION: Written comments and suggestions from the public and affected agencies concerning the proposed collection of information are encouraged. Your comments should address one or more of the following four points:

—Evaluate whether the proposed collection of information is necessary for the proper performance of the functions of the Civil Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New Generic.

2. The Title of the Form/Collection: Data Collection Survey to gain a better understanding of the prevalence and impact of elder abuse and elder abuse prevention methods and tools.

3. The agency form number, if any, and the applicable component of the Department sponsoring the collection: Civil Division, United States Department of Justice

4. Affected public who will be asked or required to respond, as well as a brief abstract: Professionals working on elder abuse and elder justice issues.

Abstract: The US Department of Justice, Elder Justice Initiative will conduct surveys to gain a better understanding of the needs of older Americans who may be at risk of, or the victims of, elder abuse and the needs of elder justice professionals to build their capacity to better serve and protect older adults from elder abuse.

5. An estimate of the total number of respondents and the amount of time estimated for an average respondent to respond: It is estimated that no more than 5000 respondents will apply. Each application takes approximately less than 30 minutes to complete and is submitted once per year (annually).

6. An estimate of the total public burden (in hours) associated with the collection: The total hour burden to complete the applications is 6,000 hours.

Category of respondent | Number of respondents | Participation time | Burden
Elder Justice Professionals | 5000 | 30 minutes | 2500 hours
State Local and Tribal government agencies | 5000 | 30 minutes | 2500 hours
Focus Groups | 1000 | 1 hour | 1000
Totals |  |  | 6,000

If additional information is required contact: Melody Braswell, Department Clearance Officer, United States Department of Justice, Justice Management Division, Policy and Planning Staff, Two Constitution Square, 145 N Street NE, 3E.405A, Washington, DC 20530.

Dated: April 11, 2018.
Melody Braswell,
Department Clearance Officer for PRA, U.S. Department of Justice.

[FR Doc. 2018-07831 Filed 4-13-18; 8:45 am]

BILLING CODE 4410-12-P